ENVIRONMENTAL PROTECTION AGENCY

40 CFR Part 52

[CA 307-0466b; FRL-7812-3]

Revisions to the California State Implementation Plan, Antelope Valley Air Pollution Control District

AGENCY: Environmental Protection Agency (EPA).

ACTION: Proposed rule.

SUMMARY: EPA is proposing to approve revisions to the Antelope Valley Air Pollution Control District portion of the California State Implementation Plan (SIP). These revisions concern rule rescissions and negative declarations that address volatile organic compound (VOC) emissions from Metal Container, Closure and Coil Coating Operations, Magnet Wire Coating Operations, Resin Manufacturing, and Surfactant Manufacturing. We are proposing to approve rule rescissions and negative declarations to update the California SIP under the Clean Air Act as amended in 1990 (CAA or the Act).

DATES: Any comments on this proposal must arrive by October 21, 2004.

ADDRESSES: Send comments to Andy Steckel, Rulemaking Office Chief (AIR-4), U.S. Environmental Protection Agency, Region IX, 75 Hawthorne Street, San Francisco, CA 94105-3901, or e-mail to steckel.andrew@epa.gov, or submit comments at http://www.regulations.gov.

You can inspect copies of the submitted SIP revisions, EPA's technical support documents (TSDs), and public comments at our Region IX office during normal business hours by appointment. You may also see copies of the submitted SIP revisions by appointment at the following locations:

California Air Resources Board, Stationary Source Division, Rule Evaluation Section, 1001 “I” Street, Sacramento, CA 95814.

Antelope Valley Air Pollution Control District, 43301 Division Street, Suite 206, Lancaster, CA 93539-4409.

A copy of the rules may also be available via the Internet at http://www.arb.ca.gov/drdb/drdbltxt.htm. Please be advised that this is not an EPA Web site and may not contain the same version of the rule that was submitted to EPA.

FOR FURTHER INFORMATION CONTACT: Julie A. Rose, EPA Region IX, (415) 947-4126, rose.julie@epa.gov.

SUPPLEMENTARY INFORMATION: This proposal addresses rule rescissions and negative declarations for the following rules: AVAQMD Rule 1125, Metal Container, Closure and Coil Coating Operations, AVAQMD Rule 1126, Magnet Wire Coating Operations, AVAQMD Rule 1141, Control of Volatile Organic Compound Emissions from Resin Manufacturing, and AVAQMD Rule 1141.2, Surfactant Manufacturing. In the Rules and Regulations section of this Federal Register, we are approving these local rule rescissions and negative declarations in a direct final action without prior proposal because we believe these SIP revisions are not controversial. If we receive adverse comments, however, we will publish a timely withdrawal of the direct final rule and address the comments in subsequent action based on this proposed rule.

We do not plan to open a second comment period, so anyone interested in commenting should do so at this time. If we do not receive adverse comments, no further activity is planned. For further information, please see the direct final action.

Dated: August 26, 2004.
Wayne Nastri,
Regional Administrator, Region IX.

[FR Doc. 04-21180 Filed 9-20-04; 8:45 am]

BILLING CODE 6560-52-P